DEPARTMENT OF TRANSPORTATION

Federal Aviation Administration

14 CFR Part 39

[Docket No. FAA-2009-1162; Directorate Identifier 2009-CE-066-AD; Amendment 39-16136; AD 2009-26-01]

RIN 2120-AA64

Airworthiness Directives; Cirrus Design Corporation Model SR22 Airplanes

AGENCY: Federal Aviation Administration (FAA), DOT.

ACTION: Final rule; request for comments.

SUMMARY: We are adopting a new airworthiness directive (AD) for certain Cirrus Design Corporation Model SR22 airplanes equipped with an anti-ice system approved for flight into known icing. This AD requires you to inspect the compression fittings on the anti-ice fluid distribution lines for proper installation and repair any fittings that were not properly installed. This AD results from the manufacturer finding some anti-ice fluid distribution lines where the compression fittings were not properly installed. We are issuing this AD to detect and correct anti-ice fluid distribution lines with improperly installed compression fittings, which could result in anti-ice fluid distribution line separation. A line separation could result in a total loss of ice protection fluid supply to the protected surfaces, which would allow ice to build on the airplane and degrade the handling qualities and performance.

DATES: This AD becomes effective on December 21, 2009.

On December 21, 2009, the Director of the Federal Register approved the incorporation by reference of certain publications listed in this AD.

We must receive any comments on this AD by January 28, 2010.

ADDRESSES: Use one of the following addresses to comment on this AD.

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

To get the service information identified in this AD, contact Cirrus Design Corporation, 4515 Taylor Circle, Duluth, MN 55811-1548; telephone: (218) 788-3000; fax: (218) 788-3525; e-mail: fieldservice@cirrusaircraft.com; Internet: http://cirrusaircraft.com.

To view the comments to this AD, go to http://www.regulations.gov. The docket number is FAA-2009-1162; Directorate Identifier 2009-CE-066-AD.

FOR FURTHER INFORMATION CONTACT: Anthony Flores, Aerospace Engineer, Chicago Aircraft Certification Office (ACO), 2300 E. Devon Ave., Room 107, Des Plaines, Illinois 60018; telephone: (847) 294-7140; fax: (847) 294-7834.

SUPPLEMENTARY INFORMATION:

Discussion

We were notified by Cirrus Design Corporation that, during a quality assurance inspection test flight on a Model SR22 airplane, a compression fitting separated from an anti-ice fluid distribution line. They determined the root cause of this failure was improper crimping of the fitting during fabrication. The condition is possible on other SR22 airplanes since this fabrication procedure had not changed since approval of the flight into known icing system.

This condition, if not corrected, could result in anti-ice fluid distribution line separation. A line separation could result in a total loss of ice protection fluid supply to the protected surfaces, which would allow ice to build on the airplane and degrade the handling qualities and performance.

Relevant Service Information

We reviewed Cirrus SR22 Service Bulletin SB 2X-30-08, dated November 9, 2009. The service information describes procedures for inspecting the anti-ice fluid distribution line compression fittings for proper installation. The service information also describes procedures for properly installing compression fittings on the anti-ice fluid distribution lines.

FAA's Determination and Requirements of This AD

We are issuing this AD because we evaluated all the information and determined the unsafe condition described previously is likely to exist or develop on other products of the same type design. This AD requires you to inspect for proper installation of compression fittings on the anti-ice fluid distribution lines and repair any fittings that were not properly installed.

FAA's Determination of the Effective Date

An unsafe condition exists that requires the immediate adoption of this AD. The FAA has found that the risk to the flying public justifies waiving notice and comment prior to adoption of this rule because a malfunction of the anti-ice system could result in a total loss of ice protection fluid supply to the protected surfaces. This condition would allow ice to build on the airplane and degrade the handling qualities and performance. Therefore, we determined that notice and opportunity for public comment before issuing this AD are impracticable and that good cause exists for making this amendment effective in fewer than 30 days.

Comments Invited

This AD is a final rule that involves requirements affecting flight safety, and we did not precede it by notice and an opportunity for public comment. We invite you to send any written relevant data, views, or arguments regarding this AD. Send your comments to an address listed under the ADDRESSES section. Include the docket number “FAA-2009-1162; Directorate Identifier 2009-CE-066-AD” at the beginning of your comments. We specifically invite comments on the overall regulatory, economic, environmental, and energy aspects of the AD. We will consider all comments received by the closing date and may amend the AD in light of those comments.

We will post all comments we receive, without change, to http://www.regulations.gov, including any personal information you provide. We will also post a report summarizing each substantive verbal contact we receive concerning this AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket.

Examining the AD Docket

You may examine the AD docket that contains the AD, the regulatory evaluation, any comments received, and other information on the Internet at http://www.regulations.gov; or in person at the Docket Management Facility between 9 a.m. and 5 p.m., Monday through Friday, except Federal holidays. The Docket Office (telephone (800) 647-5527) is located at the street address stated in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2009-26-01 Cirrus Design Corporation: Amendment 39-16136; Docket No. FAA-2009-1162; Directorate Identifier 2009-CE-066-AD.

Effective Date

(a) This AD becomes effective on December 21, 2009.

Affected ADs

(b) None.

Applicability

(c) This AD applies to Model SR22 airplanes; serial numbers 3409, 3411 through 3430, 3432 through 3441, 3443 through 3450, 3455 through 3465, 3467, 3468, 3470 through 3472, 3485, 3486, 3488, 3489, 3491 through 3493, 3495 through 3500, 3504, 3505, 3512, 3513, 3517, 3524, 3525, 3528, and 3546 that are:

(1) Equipped with an anti-ice system approved for flight into known icing; and

(2) Certificated in any category.

Subject

(d) Air Transport Association of America (ATA) Code 30: Ice and Rain Protection.

Unsafe Condition

(e) This AD is the result of an anti-ice fluid line separation during a quality assurance inspection at the manufacturing plant. We are issuing this AD to detect and correct anti-ice fluid distribution lines with improperly installed compression fittings, which could result in anti-ice fluid distribution line separation. A line separation could result in a total loss of ice protection fluid supply to the protected surfaces, which would allow ice to build on the airplane and degrade the handling qualities and performance.

Compliance

(f) To address this problem, you must do the following, unless already done:

Actions | Compliance | Procedures
(1) Fabricate a placard (using at least ⅛-inch letters) with the following words and install a placard on the instrument panel within the pilot's clear view: “FLIGHT INTO KNOWN OR FORECAST ICING PROHIBITED.” | Before further flight after December 21, 2009 (the effective date of this AD), unless the inspection requirement of paragraph (f)(2) has already been done. | Not Applicable.
(2) Inspect and repair as necessary the anti-ice fluid line compression fittings. Accomplishment of all of the actions specified in Cirrus SR22 service bulletin SB 2X-30-08, dated November 9, 2009, terminates the placard requirements specified in paragraph (f)(1) of this AD. | (i) Inspect at the next scheduled inspection after December 21, 2009 (the effective date of this AD) or within the next 100 hours time-in-service after December 21, 2009 (the effective date of this AD), whichever occurs first. (ii) Repair before further flight after the inspection specified in paragraph (f)(2) of this AD where any incorrectly installed compression fittings are found. | Follow Cirrus SR22 Service Bulletin SB 2X-30-08, dated November 9, 2009.

Alternative Methods of Compliance (AMOCs)

(g) The Manager, Chicago Aircraft Certification Office (ACO), FAA, has the authority to approve AMOCs for this AD, if requested using the procedures found in 14 CFR 39.19. Send information to ATTN: Anthony Flores, Aerospace Engineer, Chicago Aircraft Certification Office (ACO), 2300 E. Devon Ave., Room 107, Des Plaines, Illinois 60018; telephone: (847) 294-7140; fax: (847) 294-7834. Before using any approved AMOC on any airplane to which the AMOC applies, notify your appropriate principal inspector (PI) in the FAA Flight Standards District Office (FSDO), or lacking a PI, your local FSDO.

Material Incorporated by Reference

(h) You must use Cirrus SR22 Service Bulletin SB 2X-30-08, dated November 9, 2009, to do the actions required by this AD, unless the AD specifies otherwise.

(1) The Director of the Federal Register approved the incorporation by reference of this service information under 5 U.S.C. 552(a) and 1 CFR part 51.

(2) For service information identified in this AD, contact Cirrus Design Corporation, 4515 Taylor Circle, Duluth, MN 55811-1548; telephone: (218) 788-3000; fax: (218) 788-3525; e-mail: fieldservice@cirrusaircraft.com; Internet: http://cirrusaircraft.com.

(3) You may review copies of the service information incorporated by reference for this AD at the FAA, Central Region, Office of the Regional Counsel, 901 Locust, Kansas City, Missouri 64106. For information on the availability of this material at the Central Region, call (816) 329-3768.

(4) You may also review copies of the service information incorporated by reference for this AD at the National Archives and Records Administration (NARA). For information on the availability of this material at NARA, call (202) 741-6030, or go to: http://www.archives.gov/federal_register/code_of_federal_regulations/ibr_locations.html.

Issued in Kansas City, Missouri, on December 4, 2009.
William Timberlake,
Acting Manager, Small Airplane Directorate, Aircraft Certification Service.

[FR Doc. E9-29578 Filed 12-11-09; 8:45 am]

BILLING CODE 4910-13-P